ELECTION ASSISTANCE COMMISSION

Sunshine Act Meetings

AGENCY: U.S. Election Assistance Commission.

ACTION: Sunshine Act notice; notice of public roundtable agenda.

SUMMARY: Roundtable Discussion: Voter Turnout and Trends For People with Disabilities During the 2020 General Election.

DATES: Wednesday, July 7, 2021, 10:00 a.m.-11:00 a.m. Eastern.

ADDRESSES: Virtual via Zoom.

The roundtable discussion is open to the public and will be livestreamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct a virtual roundtable discussion on a new report analyzing voter turnout among citizens with disabilities during the 2020 general election.

Agenda: The U.S. Election Assistance Commission (EAC) will hold a roundtable discussion on a new report released by the EAC and the Program for Disability Research at Rutgers University. The report highlights new data on turnout for citizens with disabilities from the federal government's Current Population Survey Voting Supplement for November 2020 and provides additional context for the EAC comprehensive national report released in February 2021, “Disability and Voting Accessibility in the 2020 Elections.” Professor Lisa Schur, Co-Director of the Program for Disability Research at Rutgers University and Distinguished Professor Douglas Kruse, Co-Director of the Program for Disability Research at Rutgers University will join the EAC Commissioners to discuss the findings on voter turnout, methods of voting, and other trends for voters with disabilities from the 2020 general election.

The full agenda will be posted in advance on the EAC website: https://www.eac.gov.

Status: This roundtable discussion will be open to the public.

Amanda Joiner,
Associate Counsel, U.S. Election Assistance Commission.

[FR Doc. 2021-14174 Filed 6-29-21; 11:15 am]

BILLING CODE P